DEPARTMENT OF COMMERCE

International Trade Administration

[A-552-802]

Certain Frozen Warmwater Shrimp From the Socialist Republic of Vietnam: Extension of Preliminary Results of Antidumping Duty New Shipper Review

AGENCY: Import Administration, International Trade Administration, Department of Commerce.

SUMMARY: The Department of Commerce (“Department”) is extending the time limit for the preliminary results of the new shipper review of certain frozen warmwater shrimp (“shrimp”) from the Socialist Republic of Vietnam (“Vietnam”). This review covers the period February 1, 2008 through January 31, 2009.

DATES: Effective Date: January 6, 2010.

FOR FURTHER INFORMATION CONTACT: Toni Dach or Paul Walker, AD/CVD Operations, Office 9, Import Administration, International Trade Administration, U.S. Department of Commerce, 14th Street and Constitution Avenue, NW., Washington, DC 20230; telephone: (202) 482-1655 or (202) 482-0413, respectively.

Background

On March 27, 2009, the Department published a notice of initiation of the new shipper review in the antidumping duty order on shrimp from Vietnam for Nhat Duc Co., Ltd. See Certain Frozen Warmwater Shrimp from the Socialist Republic of Vietnam: Initiation of Antidumping Duty New Shipper Review, 74 FR 13416 (March 27, 2009). On September 15, 2009, the Department extended the time limit for issuing the preliminary results of the new shipper review by 106 days. See Certain Frozen Warmwater Shrimp from the Socialist Republic of Vietnam: Extension of Preliminary Results of Antidumping Duty New Shipper Review, 74 FR 47190 (September 15, 2009). The preliminary results of this review are currently due no later than December 31, 2009.

Statutory Time Limits

In antidumping duty new shipper reviews, section 751(a)(2)(B)(iv) of the Tariff Act of 1930, as amended (“the Act”), and 19 CFR 351.214(i)(1) requires the Department to issue the preliminary results of a new shipper review within 180 days after the date on which the new shipper review was initiated and final results within 90 days after the date on which the preliminary results are issued. However, the Department may extend the deadline for completion of the preliminary results of a new shipper review to 300 days if it determines that the case is extraordinarily complicated. See 19 CFR 351.214(i)(2).

Extension of Time Limit for Preliminary Results of Review

The Department has determined that the review is extraordinarily complicated as the Department must analyze numerous supplemental questionnaires and information gathered at verification. Based on the timing of the case and the additional information that must be analyzed, the preliminary results of this new shipper review cannot be completed within the statutory time limit of 180 days.

Therefore, the Department is extending the time limit for completion of the preliminary results of this new shipper review by an additional 14 days from the December 31, 2009, deadline. The preliminary results will now be due no later than January 14, 2009. The final results continue to be due 90 days after the issuance of the preliminary results.

We are issuing and publishing this notice in accordance with sections 751(a)(2)(B)(iv) and 777(i) of the Act.

Dated: December 29, 2009.
Susan Kuhbach,
Acting Deputy Assistant Secretary for Antidumping and Countervailing Duty Operations.

[FR Doc. E9-31421 Filed 1-5-10; 8:45 am]

BILLING CODE 3510-DS-P